FARM CREDIT ADMINISTRATION

Proposed Guidelines for Ensuring and Maximizing the Quality, Objectivity, Utility, and Integrity of Information Disseminated by the Farm Credit Administration

AGENCY: Farm Credit Administration.

ACTION: Notice of availability of final guidelines.

SUMMARY: Section 515 of the Treasury and General Government Appropriations Act for Fiscal Year 2001 (Pub. L. 106-554; H.R. 5658; hereafter referred to as section 515) required all agencies to issue guidelines ensuring and maximizing the quality, objectivity, utility, and integrity of the information (including statistical information) that they disseminate. Agencies were required to issue their guidelines within 1 year after the Office of Management and Budget (OMB) issued procedural guidance to them. OMB's guidance required agencies to post their final guidelines on their Web sites by October 1, 2002. The agencies were also required to publish a notice of the availability of their final guidelines in the Federal Register. The Farm Credit Administration (FCA) is hereby publishing notice of the availability of its final guidelines on its Web site at http://www.FCA.gov.

EFFECTIVE DATE: October 1, 2002.

FOR FURTHER INFORMATION CONTACT: Cheryl Thomas, Director, Information Management Division, Office of the Chief Information Officer, Farm Credit Administration, McLean, VA 22102-5090, (703) 883-4119, TDD (703) 883-4444.

or

Doug Valcour, Chief Information Officer, Office of the Chief Information Officer, Farm Credit Administration, 1501 Farm Credit Drive, McLean, VA 22102-5090, (703) 883-4166, TDD (703) 883-4444.

Dated: September 19, 2002.
Jeanette C. Brinkley,
Acting Secretary, Farm Credit Administration Board.

[FR Doc. 02-24313 Filed 9-24-02; 8:45 am]

BILLING CODE 6705-01-P